DEPARTMENT OF LABOR

Employment and Training Administration

[TA-W-65,566]

Chrysler, LLC, Chrysler Plymouth Road Office Complex, Detroit, MI; Notice of Termination of Investigation

Pursuant to Section 221 of the Trade Act of 1974, as amended, an investigation was initiated on March 11, 2009 in response to a petition filed by the United Auto Workers Union, Local 412 on behalf of the workers of Chrysler, LLC, Chrysler Plymouth Road Office Complex, Detroit, Michigan.

The petitioner requested that the petition be withdrawn. Consequently, the investigation has been terminated.

Signed at Washington, DC, this 27th day of March 2009.
Richard Church,
Certifying Officer, Division of Trade Adjustment Assistance.

[FR Doc. E9-8937 Filed 4-17-09; 8:45 am]

BILLING CODE 4510-FN-P